DEPARTMENT OF TRANSPORTATION

Federal Aviation Administration

14 CFR Part 39

[Docket No. FAA-2013-0459; Directorate Identifier 2013-NM-044-AD; Amendment 39-17569; AD 2013-17-05]

RIN 2120-AA64

Airworthiness Directives; Bombardier, Inc. Airplanes

AGENCY: Federal Aviation Administration (FAA), DOT.

ACTION: Final rule.

SUMMARY: We are adopting a new airworthiness directive (AD) for certain Bombardier, Inc. Model CL-600-2C10 (Regional Jet Series 700, 701, & 702) airplanes, Model CL-600-2D15 (Regional Jet Series 705) airplanes, Model CL-600-2D24 (Regional Jet Series 900) airplanes, and Model CL-600-2E25 (Regional Jet Series 1000) airplanes. This AD was prompted by reports of erratic pitch movement and oscillatory behaviors of the elevator control system. This AD requires repetitive replacement of the bellcrank supports on the inner rear spar of the horizontal stabilizer with new, improved bellcrank supports. We are issuing this AD to prevent erratic pitch movement and transient accelerations, which could result in a significant pitch upset, and injuries to passengers and flightcrew.

DATES: This final rule becomes effective October 4, 2013.

The Director of the Federal Register approved the incorporation by reference of a certain publication listed in the AD as of October 4, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Ricardo Garcia, Aerospace Engineer, Airframe and Mechanical Systems Branch, ANE-171, FAA, New York Aircraft Certification Office, 1600 Stewart Avenue, Suite 410, Westbury, New York 11590; telephone (516) 228-7331; fax (516) 794-5531.

SUPPLEMENTARY INFORMATION:

Discussion

We issued a notice of proposed rulemaking (NPRM) to amend 14 CFR part 39 to include an AD that would apply to the specified products. The NPRM published in the Federal Register on May 31, 2013 (78 FR 32579). The NPRM proposed to correct an unsafe condition for the specified products.

Transport Canada Civil Aviation (TCCA), which is the aviation authority for Canada, has issued Canadian Airworthiness Directive CF-2013-03, dated February 5, 2013 (referred to after this as the Mandatory Continuing Airworthiness Information, or “the MCAI”), to correct an unsafe condition for the specified products. The MCAI states:

There have been several reported incidents of erratic pitch movements and oscillatory behaviors of the elevator control system. Investigation revealed that, the increase in the elevator breakout force induced by the introduction of a new elevator centering mechanism, in combination with the existing bracket assembly backlash and bearing friction of the bell crank support, could result in erratic pitch movement and oscillatory behavior of the elevator control system. This condition, if not corrected, could result in pitch upset of the aeroplane that generates transient accelerations. These accelerations could be high enough to injure aeroplane occupants that are not restrained in their seats.

This [TCCA] AD mandates the repetitive replacement of the bellcrank supports with a new bearing.

You may obtain further information by examining the MCAI in the AD docket.

Comments

We gave the public the opportunity to participate in developing this AD. We considered the comment received. The Airline Pilots Association International supported the NPRM (78 FR 32579, May 31, 2013).

Conclusion

We reviewed the available data, including the comment received, and determined that air safety and the public interest require adopting this final rule as proposed.

Costs of Compliance

We estimate that this AD affects 400 products of U.S. registry. We also estimate that it takes about 7 work-hours per product to comply with the basic requirements of this AD. Required parts would cost up to $2,422 per product. The average labor rate is $85 per work-hour. Based on these figures, we estimate the cost of this AD on U.S. operators to be up to $1,206,800, or up to $3,017 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov; or in person at the Docket Operations office between 9 a.m. and 5 p.m., Monday through Friday, except Federal holidays. The AD docket contains this AD, the MCAI, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive AD:

2013-17-05 Bombardier, Inc.: Amendment 39-17569; Docket No. FAA-2013-0459; Directorate Identifier 2013-NM-044-AD.

(a) Effective Date

This airworthiness directive (AD) becomes effective October 4, 2013.

(b) Affected ADs

None.

(c) Applicability

This AD applies to the airplanes specified in paragraphs (c)(1), (c)(2), and (c)(3) of this AD, certificated in any category.

(1) Bombardier, Inc. Model CL-600-2C10 (Regional Jet Series 700, 701, & 702) airplanes, serial numbers 10002 through 10999 inclusive.

(2) Bombardier, Inc. Model CL-600-2D15 (Regional Jet Series 705) and CL-600-2D24 (Regional Jet Series 900) airplanes, serial numbers 15001 through 15990 inclusive.

(3) Bombardier, Inc. Model CL-600-2E25 (Regional Jet Series 1000) airplanes, serial numbers 19001 through 19990 inclusive.

(d) Subject

Air Transport Association (ATA) of America Code 27, Flight controls.

(e) Reason

This AD was prompted by reports of erratic pitch movements and oscillatory behaviors of the elevator control system. We are issuing this AD to prevent erratic pitch movement and transient accelerations, which could result in a significant pitch upset, and injuries to passengers and flightcrew.

(f) Compliance

You are responsible for having the actions required by this AD performed within the compliance times specified, unless the actions have already been done.

(g) Repetitive Replacement of the Bellcrank Supports

For any airplane with bellcrank supports having part numbers AV670-23350-001 (left side) and AV670-23350-002 (right side), on the inner rear spar of the horizontal stabilizer: At the applicable time specified in paragraph (g)(1), (g)(2), (g)(3), or (g)(4) of this AD, replace the affected bellcrank supports with new bellcrank supports, in accordance with the Accomplishment Instructions of Bombardier Service Bulletin 670BA-27-064, dated December 11, 2012. Repeat the replacement thereafter at intervals not to exceed 20,000 flight hours.

(1) For airplanes that have, as of the effective date of this AD, accumulated 18,000 total flight hours or less: Replace before the accumulation of 24,600 total flight hours.

(2) For airplanes that have, as of the effective date of this AD, accumulated more than 18,000 total flight hours, but 23,400 total flight hours or less: Replace within 6,600 flight hours after the effective date of this AD.

(3) For airplanes that have, as of the effective date of this AD, accumulated more than 23,400 total flight hours, but 28,500 total flight hours or less: Replace before the accumulation of 30,000 total flight hours.

(4) For airplanes that have, as of the effective date of this AD, accumulated more than 28,500 total flight hours: Within 1,500 flight hours after the effective date of this AD.

(h) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

(1) Refer to Mandatory Continuing Airworthiness Information (MCAI) Canadian Airworthiness Directive CF-2013-03, dated February 5, 2013, for related information, which can be found in the AD docket on the Internet at http://www.regulations.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bombardier Service Bulletin 670BA-27-064, dated December 11, 2012.

(ii) Reserved.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 9, 2013.
Jeffrey E. Duven,
Acting Manager, Transport Airplane Directorate, Aircraft Certification Service.

[FR Doc. 2013-20237 Filed 8-29-13; 8:45 am]

BILLING CODE 4910-13-P